DEPARTMENT OF TRANSPORTATION

Federal Aviation Administration

Notice of Intent To Rule on Request for a Land Release of a 6.1 Acre Non-Contiguous Airport Owned Parcel Near the Long Island Macarthur Airport, New York. The Parcel Is Located at 1612 Coates Avenue, Holbrook, New York

AGENCY: Federal Aviation Administration (FAA), DOT.

ACTION: Notice and request for comment.

SUMMARY: The FAA proposes to rule and invite public comment for a land release of a 6.1 acre airport owned parcel, not contiguous with the airport, located at 1612 Coates Avenue, Holbrook, NY.

DATES: Comments must be received on or before October 13, 2016.

ADDRESSES: Comments on this application may be mailed or delivered to the following address: Robert Schneider, Deputy Commissioner, Long Island MacArthur Airport, 100 Arrival Avenue, Suite 100, Ronkonkoma, New York 11779, (631) 647-3300, and at the FAA New York Airports District Office: Evelyn Martinez, Manager, New York Airports District Office, 1 Aviation Plaza, Jamaica, NY 11434, (718) 995-5771.

FOR FURTHER INFORMATION CONTACT: Jose Moreno, Community Planner, New York Airports District Office, location listed above. (718) 995-5775.

The request for a Land Release of a parcel located at 1612 Coates Avenue, Holbrook, NY, may be reviewed in person at the New York Airports District Office located at 159-30 Rockaway Blvd., Suite 111, Jamaica, NY 11434.

SUPPLEMENTARY INFORMATION: The FAA invites public comment on the request for a Land Release of a 6.1 acre airport owned parcel located at 1612 Coates Avenue, NY, under the provisions of 49 U.S.C. 47125(a). Based on a full review, the FAA determined that the Land Release request for the parcel in question Avenue parcel, submitted by the Town of Islip on behalf of the Long Island MacArthur Airport, met the procedural requirements.

The Town of Islip requested a Land Release of an airport owned parcel, not contiguous to the airport and located at 1612 Coates Avenue, Holbrook, NY. The airport has determined that the parcel is not suitable for aeronautical activity and it is no longer needed for aeronautical operations. The revenue generated by the sale will be used for airport purposes.

The property has been under Airport ownership since 1989 and it is no longer needed for aviation purposes. There exits private sector interest to develop the property in accordance with current zoning. Such development would be consistent with the surrounding area and interest in residential development.

Transferring the property to the private sector and allowing private sector investment would be of benefit to the Town of Islip, the airport, and the surrounding area by providing up to nine single family homes in a residential area with high demand. The land release would be contingent on deed restrictions for the new residential units to ensure the interest of the airport are considered with any new development consistent with Order 5190.6B Ch. 22. All proceeds generated from the sale of the property must be used exclusively by the airport in accordance with 49 U.S.C. 47107(b) and the FAA's policy on revenue use. Any person may inspect the request by appointment at the FAA office address listed above. Interested persons are invited to comment on the proposed Land Release application for an airport owned parcel. All comments will be considered by the FAA to the extent practicable.

Issued in Jamaica, New York, August 31, 2016.
Evelyn Martinez,
Manager, New York Airports District Office.

[FR Doc. 2016-21968 Filed 9-12-16; 8:45 am]

BILLING CODE 4910-13-P